DEPARTMENT OF ENERGY

Federal Energy Regulatory Commission

[Docket No. RM01-5-000]

Electronic Tariff Filings; Notice of Changes to the Establishment of Effective Dates for Filings Initially Accepted With Indeterminate Effective Dates (12/31/9998)

Take notice that effective July 28, 2025, the Commission is modifying its eTariff program as it applies to filings that establish effective dates in proceedings in which the Commission had previously accepted proposed tariff records with indeterminate effective dates (12/31/9998). The revised process is intended to improve the accuracy of the data in eTariff. Under the revision, filers need to use the same process to designate an accepted tariff record with a 12/31/9998 date as overtaken by events (OBE) as they currently use to designate a pending tariff record as OBE. Companies with outstanding obligations to make compliance or informational filings to establish effective dates for filings using 12/31/9998 dates should follow this procedure.

The following provides a more detailed description of how the process will work. The need for this procedure arises when an eTariff filer needs Commission acceptance of its filing before it can establish an effective date for the tariff record(s).¹ Under current procedures, the filer includes a 12/31/9998 placeholder date as its proposed record effective date in its initial filing (Filing 1). If the Commission accepts that filing, the tariff record(s) are then designated as “accepted” in eTariff.

¹ A common example is when, a filer makes a proposal to establish a new service and does not know the effective date because it wants Commission acceptance of the filing before it makes the investment needed for implementation and does not know how long implementation will take.

After this revision to eTariff, once the filer knows the effective date of the tariff record(s) previously accepted by the Commission, the filer will be required to make a compliance filing (Filing 2) to establish the actual effective date for the tariff record(s) and to designate the original accepted tariff record(s) in Filing 1 as OBE. Under this procedure, the filer must make a compliance filing in the same docket as Filing 1 by using the associated filing identifier (associated_filing_id) at the filing level. The filing must include a tariff record(s) with the actual effective date(s) for the previously-accepted tariff record(s) and that also includes, at the tariff record level, the associated filing identifier (associated_filing_id), associated record id (associated_record_id), and associated option code (associated_option_code) of each original tariff record accepted with a 12/31/9998 date. Filers should note that this process can be used only to designate as OBE an accepted tariff record with a 12/31/9998 date and cannot be used to designate as OBE other accepted or effective tariff records.

For more information, contact Michael.Goldenberg@ferc.gov, James.Sarikas@ferc.gov, or the eTariff Advisory Staff at 202-502-6501 or at etariffresponse@ferc.gov.

Dated: July 21, 2025.
Debbie-Anne A. Reese,
Secretary.

[FR Doc. 2025-13996 Filed 7-23-25; 8:45 am]

BILLING CODE 6717-01-P